DEPARTMENT OF HEALTH AND HUMAN SERVICES

National Institutes of Health

Warren Grant Magnuson Clinical Center; Submission for OMB Review; Comment Request; Customer and Other Partners Satisfaction Surveys

SUMMARY: In compliance with the requirement of section 3507(A)(1)(D) of the Paperwork Reduction Act of 1995 for the opportunity for public comment on the proposed data collection projects, the Warren Grant Magnuson Clinical Center (CC), the National Institutes of Health, (NIH) has submitted to the Office of Management and Budget (OMB) a request to review and approve the information collection listed below. This proposed information collection was previously published in the Federal Register on December 19, 2003 (Volume 68, Number 244, page 70821), and allowed 60 days for public comments. No public comments were received. The purpose of this notice is to provide an additional 30 days for public comment.

5 CFR 1320.5. Respondents to this request for information collection should not respond unless the request displays a currently valid OMB control number.

Proposed Collection

Title: Generic Clearance for Satisfaction Surveys of Customer and Other Partners.

Type of Information Collection Request: Extension (OMB Control Number: 0925-0458).

Need and Use of Information Collection: The information collected in these surveys will be used by Clinical Center personnel: (1) To evaluate the satisfaction of various Clinical Center customers and other partners with Clinical Center services; (2) to assist with the design of modifications of these services, based on customer input; (3) to develop new services, based on customer need; and (4) to evaluate the satisfaction of various Clinical Center customers and other partners with implemented service modifications. These surveys will almost certainly lead to quality improvement activities that will enhance and/or streamline the Clinical Center's operations. The major mechanisms by which the Clinical Center will request customer input is through surveys and focus groups. The surveys will be tailored specifically to each class of customers and to that class of customer's needs. Surveys will either be collected as written documents, as faxed documents, mailed electronically or collected by telephone from customers. Information gathered from these surveys of Clinical Center customers and other partners will be presented to, and used directly by, Clinical Center management to enhance the services and operations of our organization.

Frequency of Response: The participants will respond yearly.

Affected public: Individuals and households, businesses and other for profit, small businesses and organizations.

Types of respondents: These surveys are designed to assess the satisfaction of the Clinical Center's major internal and external customers with the services provided. These customers include, but are not limited to, the following groups of individuals: Clinical Center patients, family members of Clinical Center patients, visitors to the Clinical Center, National Institutes of Health investigators, NIH intramural collaborators, private physicians or organizations who refer patients to the Clinical Center, volunteers, vendors and collaborating commercial enterprises, small business, regulators, and other organizations. The annual reporting burden is as follows:

Table 1.—Burden Estimate for FY 2005
Customer | Type of survey | Estimated number to be surveyed | Expected response rate | Time to complete survey | Estimated burden hours
Clinical Center Patients | Questionnaire | 3,000 | 60% | 25 minutes | 1253
Family Members of Patients | Questionnaire | 1000 | 40% | 10 minutes | 167
Former physician employees and trainees | Electronic | 500 | 20% | 10 minutes | 83.5
Referring physicians and practitioners | Questionnaire | 500 | 20% | 10 minutes | 83.5
Vendors and Collaborating Commercial Enterprises | Questionnaire | 2000 | 20% | 15 minutes | 500
Volunteers | Questionnaire | 275 | 60% | 40 minutes | 183.7
Total |  |  | n = 2,965 |  | 2270.7

Estimated costs to the respondents consists of their time; time is estimated using a rate of $10.00 per hour for patients and the public; $30.00 for vendors, regulators, organizations and $55.00 for health care professionals. The estimated annual costs to respondents for each year for which the generic clearance extension is requested is $40,222 annually. A contract has been let with a vendor to provide assistance in survey administration. The estimated annual cost of this contract is $36,000.00. There are no capital costs to report.

Requests for Comments: Written comments and/or suggestions from the public and affected agencies are invited on one or more of the following points: (1) Whether the proposed collection of information is necessary for the proper performance of the functions of the Clinical Center and the agency, including whether the information shall have practical utility; (2) The accuracy of the agency's estimate of the burden of the proposed collection of information, including the validity of the methodology and assumptions used; (3) Ways to enhance the quality, utility, and clarity of the information to be collected; and (4) Ways to minimize the burden of the collection of information on those who are to respond, including the use of automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Dr. David K. Henderson, Deputy Director for Clinical Care, Warren G. Magnuson Clinical Center, National Institutes of Health, Building 10, Room 2C 146, 9000 Rockville Pike, Bethesda, Maryland 20892, or call non-toll free: (301) 496-3515, or e-mail your request or comments, including your address to: dhenderson@cc.nih.gov.

Comments Due Date: Comments regarding this information collection are best assured of having their full effect if received within 30 days of the date of this publication.

Dated: March 22, 2004.
David K. Henderson,
Deputy Director for Clinical Care, CC, National Institutes of Health.

[FR Doc. 04-6846 Filed 3-25-04; 8:45 am]

BILLING CODE 4140-01-M